DEPARTMENT OF TRANSPORTATION

Federal Aviation Administration

[Docket No. FAA-2017-0975]

Agency Information Collection Activities: Requests for Comments; Clearance of Renewed Approval of Information Collection: Information Collection 2120-0768

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 7, 2019. The FAA proposes collecting information related to requests to operate Unmanned Aircraft Systems (UAS) in controlled airspace pursuant to regulations contained in the code of federal regulations. FAA will use the collected information to make determinations whether to authorize or deny the requested operation of UAS in controlled airspace. The proposed information collection is necessary to issue such authorizations or denials consistent with the FAA's mandate to ensure safe and efficient use of national airspace.

DATES: Written comments should be submitted by December 2, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Casey Nair, FAA's Unmanned Aircraft Systems (UAS) Low Altitude Authorization and Notification Capability (LAANC) Program Manager, by email at Casey.Nair@faa.gov; phone: 202-267-0369.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0768.

Title: Requests for Comments; Clearance of Renewed Approval of Information Collection: Information Collection 2120-0768, Part 107 Authorizations and Waivers under 14 CFR part 107.

Form Numbers: There are no forms associated with this collection.

Type of Review: Renewal of existing Information Collection.

Background: The Federal Register Notice with 60-day comment period soliciting comments on the following collection of information was published on August 7, 2019 (84 FR 38719). The FAA has seen increased operations of small Unmanned Aircraft Systems (UAS) flying under 14 CFR part 107. Section 107.41 states that “no person may operate a small unmanned aircraft in Class B, Class C, or Class D airspace or within the lateral boundaries of the surface area of Class E airspace designated for an airport unless that person has prior authorization from Air Traffic Control (ATC).” Such authorization may be obtained in the form of either an airspace authorization issued by the FAA or a waiver of the authorization requirements of 14 CFR 107.41 (airspace waiver). Additionally, operators may request waivers of the other operational requirements listed in § 107.205 (operational waivers).

In order to process authorization and airspace waiver requests, the FAA requires the operator's name, the operator's contact information, and information related to the date, place, and time of the requested small UAS operation. This information is necessary for the FAA to meet its statutory mandate of maintaining a safe and efficient national airspace. See 49 U.S.C. 40103 and 44701; 49 U.S.C. 44807.

Additionally, if the operator is seeking an operational waiver from one of the other regulations listed in 14 CFR 107.205, further information is required related to the proposed waiver and any necessary mitigations. The FAA will use the requested information to determine if the proposed UAS operation can be conducted safely.

The FAA proposes to use LAANC and a web portal to process authorization requests from the public to conduct Part 107 flight operations pursuant to § 107.41. The FAA also proposes to use the web portal to process requests from the public to conduct Part 107 flight operations that require an operational waiver or an airspace waiver.

The FAA received no public comments to the 60-day Federal Register Notice.

Respondents: Small UAS operators seeking to conduct flight operations under 14 CFR part 107 within controlled airspace or flight operations that require waiver from certain provisions of Part 107. Between 2020-2022, the FAA estimates that it will receive a total of 794,888 requests for airspace authorization. The FAA determines future estimated airspace authorization requests by the ratio of the number of received requests against the total number of registered Part 107 UAS. In the 60-day Notice published on August 7, 2019, the FAA estimated 346,917 airspace authorizations from 2020-2022. This number has increased to 794,888 for two reasons. First, since the 60-day Notice estimate on future airspace authorization requests was made, there have been nearly 30,000 new registrations of UAS, which exceeds all FAA expectations. The FAA has also received a corresponding increase in authorization requests since the 60-day Notice was published. The FAA now expects to see 18% more airspace authorization requests in 2019 than when the 60-day Notice was published, which increases the number of respondents the FAA expects over the next three years. Second, in its 60-day Notice the FAA calculated future UAS use based on the ratio of requests to registrations, but used a ratio based on requests from January 1—May 31, 2019 as opposed to the ratio for the full calendar year. This change reflects only that the FAA anticipates the total number of requests from all Part 107 respondents to be higher than what was estimated in the 60-day Notice. The time required for each individual request will remain the same as the average burden per response remains 5 minutes for respondents using LAANC and 30 minutes for respondents using the web portal as reported in the 60-day Notice.

In the 60-day Notice, the FAA estimated 27,831 requests for airspace waivers and 9,000 requests for operational waivers. When the FAA provided the estimates in the 60-day Notice it transposed the numbers for airspace waivers and operational waivers. The FAA estimates it will receive 8,458 requests for airspace waivers and 24,103 requests for operational waivers between 2020-2022 which reflects the correct burden estimate for compliance with sub-sections of 14 CFR 107.205.

Frequency: The requested information will need to be provided each time a respondent requests an airspace authorization to operate a small UAS under 14 CFR part 107 in controlled airspace. A respondent may reduce the frequency by seeking and obtaining an airspace waiver to conduct recurring operations. For requests for operational waivers, a respondent will need to provide the information once at the time of the request for the waiver. If granted, operational waivers may be valid for up to four (4) years.

Estimated Average Burden per Response: The FAA estimates the respondents using LAANC will take five (5) minutes per request and those using the web portal will take thirty (30) minutes per request. For those submitting requests for airspace or operational waivers through the web portal, the FAA estimates each request will take thirty (30) minutes.

Estimated Total Annual Burden: For airspace authorizations, the FAA estimates that the average annual burden will be 35,251 hours for respondents submitting requests. This includes 19,353 burden hours for 233,167 respondents using the automated LAANC capabilities and 15,898 hours for 31,796 web portal respondents. These revised numbers reflect corrections made as explained above.

For airspace waivers, the FAA estimates that the average annual burden will be 1,410 hours for respondents. For operational waivers, the FAA estimates that the average annual burden will be 5,222 hours for respondents. These revised numbers reflect corrections made as explained above.

Issued in Washington, DC, on October 29, 2019.
Casey Nair,
UAS LAANC Program Manager.

[FR Doc. 2019-23947 Filed 10-31-19; 8:45 am]

BILLING CODE 4910-13-P